DEPARTMENT OF HOUSING AND URBAN DEVELOPMENT

[Docket No. FR-4674-C-02]

Notice of Funding Availability; Tribal Colleges and Universities Program; Fiscal Year 2001; Correction

AGENCY: Office of the Assistant Secretary for Policy Development and Research.

ACTION: Notice of funding availability (NOFA) for fiscal year 2001; correction.

SUMMARY: On May 11, 2001 (66 FR 24236), the Department published a notice that announced the availability of Fiscal Year (FY) 2001 funding for its new Tribal Colleges and Universities Program. This document corrects the definition of “eligible applicant” in paragraph (B) section III (Program Description; Eligible Applicants: Eligible Activities), by requiring that applicants meet the statutory definition of TCU in Title III of the 1998 Amendments to the Higher Education Act of 1965 (P.L. 105-244) rather than Title V of the same Act.

DATES: The application due date for this program remains as published in the Federal Register on May 11, 2001.

FOR FURTHER INFORMATION CONTACT: Please contact the office or individual identified in the notice published in the Federal Register on May 11, 2001 for further information.

SUPPLEMENTARY INFORMATION: On May 11, 2001 (66 FR 24236), the Department published a notice that announced the availability of Fiscal Year (FY) 2001 funding for its new Tribal Colleges and Universities Program. In defining the term “eligible applicants”, HUD incorrectly stated that only tribal colleges and universities that meet the definition of a TCU as defined by Title V of the 1998 Amendments to the Higher Education Act of 1965 (P.L. 105-244) would be eligible for funding under this program. Through this document, HUD corrects the citation for eligibility from Title V of the 1998 Amendments to the Higher Education Act of 1965 (P.L. 105-244) to Title III of the same Act

Accordingly, FR Doc. 01-11957, a Notice of Funding Availability for the Tribal Colleges and Universities Program Fiscal Year 2001, published in the Federal Register on May 11, 2001 at 66 FR 24236, is corrected as follows:

• On page 24236, first column, the third paragraph under the SUMMARY section of the notice is corrected to read as follows:

Eligible Applicants: Only tribal colleges and universities that meet the definition of a TCU established in Title III of the 1998 Amendments to the Higher Education Act of 1965 (P.L. 105-244l enacted October 7, 1998).

• On page 24236, third column, the first sentence of paragraph (B), Section III, (Program Description; Eligible Activities; Eligible Applicants) is revised to read:

(B) Eligible Applicants. Only if your institution is a nonprofit institution of higher education and meets the statutory definition of a TCU in Title III of the 1998 Amendments to the Higher Education Act of 1965 (P.L. 105-244) are you eligible to apply.

Dated: May 24, 2001.
Lawrence L. Thompson,
General, Deputy Assistant Secretary for Policy Development and Research.

[FR Doc. 01-14667 Filed 6-11-01; 8:45 am]

BILLING CODE 4210-62-P